DEPARTMENT OF HEALTH AND HUMAN SERVICES

Administration for Children and Families

Submission for OMB Review; Comment Request

Title: State Abstinence Education Program.

OMB No.: 0970-0381.

Description: The State Abstinence Program was extended through Fiscal Year 2014 under Patient Protection and Affordable Care Act of 2010 (Affordable Care Act, hereafter), Public Law 111-148.

The Family and Youth Services Bureau (FYSB) is accepting applications from States and Territories for the development and implementation of the State Abstinence Program. The purpose of this program is to support decisions to abstain from sexual activity by providing abstinence programming as defined by Section 510(b) of the Social Security Act (42 U.S.C. 710(b)) with a focus on those groups that are most likely to bear children out-of-wedlock, such as youth in or aging out of foster care.

States are encouraged to develop flexible, medically accurate and effective abstinence-based plans responsive to their specific needs. These plans must provide abstinence education, and at the option of the State, where appropriate, mentoring, counseling, and adult supervision to promote abstinence from sexual activity, with a focus on those groups which are most likely to bear children out-of-wedlock. An expected outcome for all programs is to promote abstinence from sexual activity. Pursuant to the program announcement, all grantees must report on performance on a semiannual basis.

OMB approval is requested to solicit comments from the public on paperwork reduction as it relates to ACYF's receipt of the application, state plan, and/or semiannual reporting documents from applicants and awardees labeled:

Application

State Plan

Performance Progress Report (PPR)

Respondents: Application and Plan: 22 States and Territories who have not previously applied for the State Abstinence Program and PPR:50 States and 9 Territories, to include, District of Columbia, Puerto Rico, Virgin Islands, Guam, American Samoa, Northern Mariana Islands, the Federated States of Micronesia, the Marshall Islands and Palau.

12—Estimates of Annualized Burden Hours and Costs
Instrument | Average burden hours per response | Number of respondents | Number of responses per respondent | Total burden hours
Application | 24 | 22 | 1 | 528
State Plan | 40 | 22 | 1 | 880
Performance Progress Reports | 30 | 59 | 2 | 3,540
|  |  |  | 4,948

Total estimated annual burden hours: 4,948.

The estimated monetary value of time is $50 × 4,948 hours = $247,400.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV. Attn: Desk Officer for the Administration for Children and Families.

Robert Sargis,
Reports Clearance Officer.

[FR Doc. 2013-22996 Filed 9-20-13; 8:45 am]

BILLING CODE 4184-01-P